DEPARTMENT OF THE INTERIOR

National Park Service

[NPS-WASO-NAGPRA-NPS0034485; PPWOCRADN0-PCU00RP14.R50000]

Notice of Inventory Completion: The Charleston Museum, Charleston, SC

AGENCY: National Park Service, Interior.

ACTION: Notice.

SUMMARY: The Charleston Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to The Charleston Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to The Charleston Museum at the address in this notice by October 12, 2022.

FOR FURTHER INFORMATION CONTACT: Martha Zierden, The Charleston Museum, 360 Meeting Street, Charleston, SC 29403, telephone (843) 722-2996 Ext. 225, email mzierden@charlestonmuseum.org.

SUPPLEMENTARY INFORMATION: Notice is here given in accordance with the Native American Graves Protection and Repatriation Act (NAGPRA), 25 U.S.C. 3003, of the completion of an inventory of human remains and associated funerary objects under the control of The Charleston Museum, Charleston, SC. The human remains and associated funerary objects were removed from “Mounds near Pioneer” in West Carroll Parish, LA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by The Charleston Museum professional staff, Dr. Suzanne Abel of the Charleston County Coroner's Office, and Dr. Wolf Bueschgen, a forensic dentist, in consultation with representatives of the Apache Tribe of Oklahoma; Coushatta Tribe of Louisiana; Jena Band of Choctaw Indians; Quapaw Nation (previously listed as The Quapaw Tribe of Indians); The Choctaw Nation of Oklahoma; and The Muscogee (Creek) Nation (hereafter referred to as “The Consulted Tribes”).

History and Description of the Remains

In 1925, human remains representing, at minimum, one individual were removed from unidentified “mounds near Pioneer” in West Carroll Parish, LA. Subsequently, they were given to the Louisiana State Museum. In 1926, the Louisiana State Museum, under Director Robert Glenk, donated the human remains and associated cultural items to The Charleston Museum, where they have been curated since March of 1926. The human remains, consisting of four skeletal elements, were examined in 2019 by Dr. Suzanne Abel in consultation with The Choctaw Nation of Oklahoma. Dr. Abel determined that these human remains probably belong to a single individual. No known individual was identified. The 37 associated funerary objects are five clay poverty point objects, 16 pottery fragments, three portions of pottery vessels, six stone tools or projectile points, four stone plummets or gorget fragments, one stone net sinker, and two rubbing stones.

Based on consultation with the Office of State Archaeologist for Louisiana, the clay objects and plummets are typical Poverty Point period cultural materials (1700-1300 BC). Seven pottery sherds are likely from a single engraved, shell-tempered vessel, probably Plaquemine or Mississippian in age (after A.D. 1000). Eight sherds, Coles Creek Incised or Mazique Incised, are dated A.D. 800-1200. Three grog-tempered sherds probably date to after A.D. 700. A nearly complete shell tempered vessel, the neck of a water bottle, and a partial hybrid Coles Creek vessel all date to sometime after A.D. 1000.

Information on the actual site location and collection history is limited to a single letter to The Charleston Museum from the Louisiana State Museum in 1926. Determination of the cultural affiliation of the human remains and associated funerary objects is based upon geographical, kinship, biological, archeological, linguistic, oral traditional, and historic information.

Determinations Made by The Charleston Museum

Officials of The Charleston Museum have determined that:

• Pursuant to 25 U.S.C. 3001(9), the human remains described in this notice represent the physical remains of one individual of Native American ancestry.

• Pursuant to 25 U.S.C. 3001(3)(A), the 37 objects described in this notice are reasonably believed to have been placed with or near individual human remains at the time of death or later as part of the death rite or ceremony.

• Pursuant to 25 U.S.C. 3001(2), there is a relationship of shared group identity that can be reasonably traced between the Native American human remains and associated funerary objects and The Choctaw Nation of Oklahoma.

Additional Requestors and Disposition

Lineal descendants or representatives of any Indian Tribe or Native Hawaiian organization not identified in this notice that wish to request transfer of control of these human remains and associated funerary objects should submit a written request with information in support of the request to Martha Zierden, The Charleston Museum, 360 Meeting Street, Charleston, SC 29403, telephone (843) 722-2996 Ext. 225, email mzierden@charlestonmuseum.org, by October 12, 2022. After that date, if no additional requestors have come forward, transfer of control of the human remains and associated funerary objects to The Choctaw Nation of Oklahoma may proceed.

The Charleston Museum is responsible for notifying The Consulted Tribes that this notice has been published.

Dated: September 1, 2022.
Melanie O'Brien,
Manager, National NAGPRA Program.

[FR Doc. 2022-19614 Filed 9-9-22; 8:45 am]

BILLING CODE 4312-52-P